DEPARTMENT OF ENERGY

Federal Energy Regulatory Commission

[Projects Nos. 10461-002 and 10462-002 New York]

Erie Boulevard Hydropower L.P.; Notice of Availability of Draft Environmental Assessment

March 22, 2002.

In accordance with the National Environmental Policy Act of 1969 and the Federal Energy Regulatory Commission's (Commission) regulations, 18 CFR part 380 (Order No. 486, 52 FR 47897), the Office of Energy Projects has reviewed the applications for original licenses for Erie Boulevard Hydropower L.P.'s Parishville Hydroelectric Project and Allens Falls Hydroelectric Project, both located on the West Branch St. Regis River in St. Lawrence County, New York, and has prepared a Draft Environmental Assessment (DEA) for the projects. Neither project occupies any lands of the United States.

The DEA contains the Commission staff's analysis of the potential future environmental impacts of the project and has concluded that licensing the project, with appropriate environmental protective measures, would not constitute a major federal action that would significantly affect the quality of the human environment.

A copy of the DEA is on file with the Commission and is available for public inspection. The DEA may also be viewed on the Web at http://www.ferc.gov using the “RIMS” link—select “Docket #” and follow the instructions (call 202-208-2222 for assistance).

Any comments should be filed within 30 days from the date of this notice and should be addressed to Magalie R. Salas, Secretary, Federal Energy Regulatory Commission, 888 First Street, NE, Washington, DC 20426. Please affix Project No. 10461-002 and Project No. 10462-002 to all comments. Comments may be filed electronically via the Internet in lieu of paper. See 18 CFR 385.2001(a)(1)(iii) and the instructions on the Commission's Web site under the “e-Filing” link.For further information, contact Peter Leitzke at (202) 219-2803.

Linwood A. Watson, Jr.,
Deputy Secretary.

[FR Doc. 02-7453 Filed 3-27-02; 8:45 am]

BILLING CODE 6717-01-P